DEPARTMENT OF TRANSPORTATION

Federal Highway Administration

[Docket No. FHWA-2026-0067]

Agency Information Collection Activities: Request for Comments for a New Information Collection

AGENCY: Federal Highway Administration (FHWA), Department of Transportation (DOT).

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by April 3, 2026.

ADDRESSES: You may submit comments identified by DOT Docket ID Number 0067 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, East Building Ground Floor, Room E63-314, 1200 New Jersey Avenue SE, Washington, DC 20590, between 9 a.m. and 5 p.m. ET, Monday through Friday, except Federal holidays.

FOR FURTHER INFORMATION CONTACT: Carlos McCloud or Jim Garling, Office of Transportation Operations, Federal Highway Administration, Department of Transportation, 1200 New Jersey Ave. SE, Washington, DC, between 7 a.m. and 4 p.m., Monday through Friday, except Federal holidays.

SUPPLEMENTARY INFORMATION:

Title: Congestion Relief Program.

Background: This collection involves applicants to submit a proposal for discretionary grant funding, under the “Congestion Relief Program” established by the Infrastructure Investment and Jobs Act of 2021, November 15, 2021, “Bipartisan Infrastructure Law”, or “BIL”. The FHWA will receive the information to fulfill the grant application submittal requirements, grant agreement execution, and semi-annual reporting as prescribed in the Notice of Funding Opportunity (NOFO). The collection of information will include grant application forms and narratives, grant agreements, and project management semi-annual reporting. The purpose of the collection is to obtain information relevant to evaluating applications and reporting requirements agreed to by recipients of the Grants. FHWA is requesting emergency approval due to the urgency of making the associated funds available to applicants that meet the eligibility requirements under the law. The continued viability of these funds is critical in supporting the transportation infrastructure needs across the United States.

Respondents: State, Metropolitan Planning Organization (MPO), city, or municipal agencies in an urbanized area with a population greater than 1,000,000 are the anticipated respondents.

Frequency: The frequency will be a one-time application for Fiscal Year (FY) 2026 for 2025-2026 Program Year (PY) funds, to be followed by project agreement execution, reimbursement of funds, semi-annual reporting, and project closeout.

Estimated Average Burden per Response: 120 estimated burden hours per response.

Estimated Total Annual Burden Hours: The combined estimated total burden hours for the application, grant agreement, and project management stages is 2,280 burden hours (120 estimated average burden per respondent multiplied by 19, the number of applications received during the initial PY 2022-PY 2024 funding round).

FOR FURTHER INFORMATION CONTACT: Kenneth Petty, Kenneth.Petty@dot.gov, Director, Office of Planning, Environment and Realty, Federal Highway Administration, U.S. Department of Transportation, 1200 New Jersey Avenue SE, Washington, DC 20590. Office hours are from 9 a.m. to 5 p.m., Monday through Friday, except Federal holidays.

SUPPLEMENTARY INFORMATION:

Title: Prioritization Process Pilot Program.

Background: The Prioritization Process Pilot Program (PPPP) is a competitive grant program established in Section 11204 of the Infrastructure Investment and Jobs Act of 2021 (Pub. L. 117-58, November 15, 2021). The PPPP provides funding to develop and implement a publicly accessible, transparent prioritization process for the ranking and selection of projects for inclusion in short-range and long-range transportation plans, that upon completion can be evaluated for public benefit. In 2024, FHWA made the award announcement for approximately $24.7 million for 16 grants.

Respondents: The Notice of Funding Opportunity (NOFO), announcing up to $25 million of Fiscal Year (FY) 2024, 2025, and 2026 funding will be available for the roughly 182 Metropolitan Planning Organizations (MPOs) that serve a census designated urban area with a population over 200,000, the 50 States, the District of Columbia, and/or Puerto Rico to apply. FHWA anticipates over 30 eligible applicants will apply for PPPP funding.

Frequency: Once.

Estimated Average Burden per Response: 10 hours.

Estimated Total Annual Burden Hours: 300 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: January 29, 2026.
Jazmyne Lewis,
Information Collection Officer.

[FR Doc. 2026-02091 Filed 1-30-26; 8:45 am]

BILLING CODE;P